DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of human remains was made by Peabody Museum of Archaeology and Ethnology professional staff in consultation with representatives of the Aleut Corporation; Aleutian/Pribilof Islands Association Inc.; Chaluka Corporation; and the Native Village of Nikolski, which is represented by the Nikolski IRA Council.

In 1874, human remains representing one individual were collected from Kagamil Island, AK, by Captain Hennings of the Alaska Commercial Company. These human remains were donated to the Peabody Museum of Archaeology and Ethnology by the Alaska Commercial Company through the Smithsonian Institution in 1875. No known individual was identified. No associated funerary objects are present.

Museum documentation and published sources describe the human remains as an “Aleut” and date them to the 18th century. Historical documents and consultation information indicate that the Native Village of Nikolski, which is today represented by the Nikolski IRA Council and the Chaluka Corporation, occupied the area where the human remains were collected during the 18th century.

Based on the above-mentioned information, officials of the Peabody Museum of Archaeology and Ethnology have determined that, pursuant to 43 CFR 10.2 (d)(1), the human remains listed above represent the physical remains of one individual of Native American ancestry. Officials of the Peabody Museum of Archaeology and Ethnology also have determined that, pursuant to 43 CFR 10.2 (e), there is a relationship of shared group identity that can be reasonably traced between these Native American human remains and the Native Village of Nikolski, which is represented by the Nikolski IRA Council and the Chaluka Corporation.

This notice has been sent to officials of the Aleut Corporation; Aleutian/Pribilof Islands Association, Inc.; the Native Village of Nikolski; the Nikolski IRA Council; and the Chaluka Corporation. Representatives of any other Indian tribe that believes itself to be culturally affiliated with these human remains should contact Patricia Capone, Repatriation Coordinator, Peabody Museum of Archaeology and Ethnology, Harvard University, 11 Divinity Avenue, Cambridge, MA 02138, telephone (617) 496-3702, before April 24, 2002. Repatriation of the human remains to the Native Village of Nikolski, which is represented by the Nikolski IRA Council and the Chaluka Corporation, may begin after that date if no other additional claimants come forward.

Dated: February 5, 2002.
Robert Stearns,
Manager, National NAGPRA Program.

[FR Doc. 02-7005 Filed 3-22-02; 8:45 am]

BILLING CODE 4310-70-S